DEPARTMENT OF LABOR

Employment and Training Administration

[TA-W-58,226]

Alcan Packaging—Cebal Americas, a Division of Alcan, Inc., Pechiney Plastic Packaging, Cypress, CA; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and a Negative Determination Regarding Eligibility To Apply for Alternative Trade Adjustment Assistance on November 23, 2005, applicable to workers of Alcan Packaging—Cebal Americas, a division of Alcan, Inc., Cypress, California. The notice was published in the Federal Register on December 15, 2005 (70 FR 74368).

At the request of the State agency, the Department reviewed the certification for workers of the subject firm. The workers were engaged in the production of plastic tubing.

New information provided to the Department shows that some of the workers separated from employment at the subject firm had their wages reported under a separate unemployment insurance (UI) tax account for Pechiney Plastic Packaging.

Based on this new information, the Department is amending the certification to include workers of Alcan Packaging—Cebal Americas, a division of Alcan, Inc., Cypress, California, whose wages are reported to Pechiney Plastic Packaging.

The intent of the Department's certification is to include all workers of Alcan Packaging—Cebal Americas, a division of Alcan, Inc., Cypress, California, who were adversely affected by a shift in production of plastic tubing to Mexico.

The amended notice applicable to TA-W-58,226 is hereby issued as follows:

All workers of Alcan Packaging—Cebal Americas, a division of Alcan, Inc., Pechiney Plastic Packaging, Cypress, California, who became totally or partially separated from employment on or after October 28, 2004, through November 23, 2007, are eligible to apply for adjustment assistance under Section 223 of the Trade Act of 1974.

I further determine that all workers of Alcan Packaging—Cebal Americas, a division of Alcan, Inc., Pechiney Plastic Packaging, Cypress, California, are denied eligible to apply for alternative trade adjustment assistance under Section 246 of the Trade Act of 1974.

Signed at Washington, DC, this 20th day of April 2006.
Linda G. Poole,
Certifying Officer, Division of Trade Adjustment Assistance.

[FR Doc. E6-6818 Filed 5-4-06; 8:45 am]

BILLING CODE 4510-30-P